DEPARTMENT OF ENERGY

Federal Energy Regulatory Commission

Combined Notice of Filings #1

Take notice that the Commission received the following exempt wholesale generator filings:

Docket Numbers: EG23-127-000.

Applicants: Roundhouse Renewable Energy II, LLC.

Description: Roundhouse Renewable Energy II, LLC submits Notice of Self-Certification of Exempt Wholesale Generator Status.

Filed Date: 4/17/23.

Accession Number: 20230417-5272.

Comment Date: 5 p.m. ET 5/8/23.

Docket Numbers: EG23-128-000.

Applicants: Bronco Plains Wind II, LLC.

Description: Bronco Plains Wind II, LLC submits Notice of Self-Certification of Exempt Wholesale Generator Status.

Filed Date: 4/20/23.

Accession Number: 20230420-5206.

Comment Date: 5 p.m. ET 5/11/23.

Docket Numbers: EG23-129-000.

Applicants: Estrella Solar, LLC.

Description: Estrella Solar, LLC submits Notice of Self-Certification of Exempt Wholesale Generator Status.

Filed Date: 4/21/23.

Accession Number: 20230421-5063.

Comment Date: 5 p.m. ET 5/12/23.

Docket Numbers: EG23-130-000.

Applicants: Raceway Solar 1, LLC.

Description: Raceway Solar 1, LLC submits Notice of Self-Certification of Exempt Wholesale Generator Status.

Filed Date: 4/21/23.

Accession Number: 20230421-5068.

Comment Date: 5 p.m. ET 5/12/23.

Take notice that the Commission received the following Complaints and Compliance filings in EL Dockets:

Docket Numbers: EL23-61-000.

Applicants: Old Dominion Electric Cooperative v. PJM Interconnection, L.L.C.

Description: Complaint of Old Dominion Electric Cooperative v. PJM Interconnection, L.L.C.

Filed Date: 4/14/23.

Accession Number: 20230414-5287.

Comment Date: 5 p.m. ET 5/15/23.

Take notice that the Commission received the following electric rate filings:

Docket Numbers: ER20-1734-004.

Applicants: Alabama Power Company.

Description: Compliance filing: Order No. 864 OATT Supplemental Further Compliance Filing to be effective 1/27/2020.

Filed Date: 4/21/23.

Accession Number: 20230421-5141.

Comment Date: 5 p.m. ET 5/12/23.

Docket Numbers: ER23-495-003.

Applicants: AES CE Solutions, LLC.

Description: Tariff Amendment: AES CE Solutions, LLC MBR Tariff to be effective 11/24/2022.

Filed Date: 4/21/23.

Accession Number: 20230421-5067.

Comment Date: 5 p.m. ET 5/12/23.

Docket Numbers: ER23-1175-001.

Applicants: Dominion Energy South Carolina, Inc.

Description: Tariff Amendment: Jasper Prov LGIA Notice of Cancellation Amendment to be effective 2/13/2023.

Filed Date: 4/21/23.

Accession Number: 20230421-5016.

Comment Date: 5 p.m. ET 5/12/23.

Docket Numbers: ER23-1335-000.

Applicants: Ameren Illinois Company.

Description: Formal Challenge of Cooperative Customers to March 14, 2023 Annual Informational Filing by Ameren Illinois Company.

Filed Date: 4/19/23.

Accession Number: 20230419-5272.

Comment Date: 5 p.m. ET 5/19/23.

Docket Numbers: ER23-1674-000.

Applicants: Northern Iowa Windpower LLC.

Description: Tariff Amendment: Notice of Cancellation of MBR Tariff, and Request for Waiver of Prior Notice to be effective 4/21/2023.

Filed Date: 4/20/23.

Accession Number: 20230420-5207.

Comment Date: 5 p.m. ET 5/11/23.

Docket Numbers: ER23-1675-000.

Applicants: Coachella Hills Wind, LLC.

Description: § 205(d) Rate Filing: Revised Market-Based Rate Tariff to be effective 4/22/2023.

Filed Date: 4/21/23.

Accession Number: 20230421-5115.

Comment Date: 5 p.m. ET 5/12/23.

Docket Numbers: ER23-1676-000.

Applicants: Coachella Wind Holdings, LLC.

Description: § 205(d) Rate Filing: Revised Market-Based Rate Tariff to be effective 4/22/2023.

Filed Date: 4/21/23.

Accession Number: 20230421-5120.

Comment Date: 5 p.m. ET 5/12/23.

Docket Numbers: ER23-1677-000.

Applicants: EdSan 1B Group 3, LLC.

Description: § 205(d) Rate Filing: Revised Market-Based Rate Tariff to be effective 4/22/2023.

Filed Date: 4/21/23.

Accession Number: 20230421-5128.

Comment Date: 5 p.m. ET 5/12/23.

Docket Numbers: ER23-1678-000.

Applicants: Edwards Sanborn Storage I, LLC.

Description: § 205(d) Rate Filing: Revised Market-Based Rate Tariff to be effective 4/22/2023.

Filed Date: 4/21/23.

Accession Number: 20230421-5145.

Comment Date: 5 p.m. ET 5/12/23.

Docket Numbers: ER23-1679-000.

Applicants: Edwards Sanborn Storage II, LLC.

Description: § 205(d) Rate Filing: Revised Market-Based Rate Tariff to be effective 4/22/2023.

Filed Date: 4/21/23.

Accession Number: 20230421-5151.

Comment Date: 5 p.m. ET 5/12/23.

Docket Numbers: ER23-1680-000.

Applicants: Lockhart ESS, LLC.

Description: § 205(d) Rate Filing: Revised Market-Based Rate Tariff to be effective 4/22/2023.

Filed Date: 4/21/23.

Accession Number: 20230421-5152.

Comment Date: 5 p.m. ET 5/12/23.

Docket Numbers: ER23-1681-000.

Applicants: Lockhart Solar PV II, LLC.

Description: § 205(d) Rate Filing: Revised Market-Based Tariff to be effective 4/22/2023.

Filed Date: 4/21/23.

Accession Number: 20230421-5156.

Comment Date: 5 p.m. ET 5/12/23.

Docket Numbers: ER23-1682-000.

Applicants: Lockhart Solar PV, LLC.

Description: § 205(d) Rate Filing: Revised Market-Based Rate Tariff to be effective 4/22/2023.

Filed Date: 4/21/23.

Accession Number: 20230421-5159.

Comment Date: 5 p.m. ET 5/12/23.

Docket Numbers: ER23-1683-000.

Applicants: Oasis Alta, LLC.

Description: § 205(d) Rate Filing: Revised Market-Based Rate Tariff to be effective 4/22/2023.

Filed Date: 4/21/23.

Accession Number: 20230421-5164.

Comment Date: 5 p.m. ET 5/12/23.

Docket Numbers: ER23-1684-000.

Applicants: Painted Hills Wind Holdings, LLC.

Description: § 205(d) Rate Filing: Revised Market-Based Rate Tariff to be effective 4/22/2023.

Filed Date: 4/21/23.

Accession Number: 20230421-5174.

Comment Date: 5 p.m. ET 5/12/23.

Docket Numbers: ER23-1685-000.

Applicants: Sagebrush ESS, LLC.

Description: § 205(d) Rate Filing: Revised Market-Based Rate Tariff to be effective 4/22/2023.

Filed Date: 4/21/23.

Accession Number: 20230421-5177.

Comment Date: 5 p.m. ET 5/12/23.

Docket Numbers: ER23-1686-000.

Applicants: Sagebrush Line, LLC.

Description: § 205(d) Rate Filing: Revised Market-Based Rate Tariff to be effective 4/22/2023.

Filed Date: 4/21/23.

Accession Number: 20230421-5184.

Comment Date: 5 p.m. ET 5/12/23.

Docket Numbers: ER23-1687-000.

Applicants: Valley Center ESS, LLC.

Description: § 205(d) Rate Filing: Revised Market-Based Rate Tariff to be effective 4/22/2023.

Filed Date: 4/21/23.

Accession Number: 20230421-5187.

Comment Date: 5 p.m. ET 5/12/23.

Docket Numbers: ER23-1688-000.

Applicants: Voyager Wind IV Expansion, LLC.

Description: § 205(d) Rate Filing: Revised Market-Based Rate Tariff to be effective 4/22/2023.

Filed Date: 4/21/23.

Accession Number: 20230421-5190.

Comment Date: 5 p.m. ET 5/12/23.

Docket Numbers: ER23-1689-000.

Applicants: New England Power Pool Participants Committee, ISO New England Inc.

Description: § 205(d) Rate Filing: New England Power Pool Participants Committee submits tariff filing per 35.13(a)(2)(iii: NTE CT Termination Filing to be effective 6/22/2023.

Filed Date: 4/21/23.

Accession Number: 20230421-5198.

Comment Date: 5 p.m. ET 5/12/23.

Docket Numbers: ER23-1690-000.

Applicants: Northern States Power Company, a Minnesota corporation.

Description: § 205(d) Rate Filing: 2023-04-21 MMPA—East Shakopee—SISA—736 to be effective 4/22/2023.

Filed Date: 4/21/23.

Accession Number: 20230421-5201.

Comment Date: 5 p.m. ET 5/12/23.

Take notice that the Commission received the following qualifying facility filings:

Docket Numbers: QF23-350-000.

Applicants: City Solar Garden LLC.

Description: Refund Report of City Solar Garden LLC.

Filed Date: 4/20/23.

Accession Number: 20230420-5243.

Comment Date: 5 p.m. ET 5/11/23.

Docket Numbers: QF23-351-000.

Applicants: Charter Hill Solar, LLC.

Description: Refund Report of Charter Hill Solar, LLC.

Filed Date: 4/20/23.

Accession Number: 20230420-5244.

Comment Date: 5 p.m. ET 5/11/23.

Docket Numbers: QF23-352-000.

Applicants: MLH Phase 3, LLC.

Description: Refund Report of MLH Phase 3, LLC.

Filed Date: 4/20/23.

Accession Number: 20230420-5245.

Comment Date: 5 p.m. ET 5/11/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 21, 2023.
Debbie-Anne A. Reese,
Deputy Secretary.

[FR Doc. 2023-08921 Filed 4-26-23; 8:45 am]

BILLING CODE 6717-01-P